ENVIRONMENTAL PROTECTION AGENCY

[EPA-HQ-OPP-2021-0513; FRL-9119-01-OCSPP]

Notice of Receipt of Requests To Voluntarily Cancel Certain Pesticide Registrations and Amend Registrations To Terminate Certain Uses

AGENCY: Environmental Protection Agency (EPA).

ACTION: Notice.

SUMMARY: In accordance with the Federal Insecticide, Fungicide, and Rodenticide Act (FIFRA), EPA is issuing a notice of receipt of requests by the registrants to voluntarily cancel their registrations of certain products and to amend certain product registrations to terminate uses. EPA intends to grant these requests at the close of the comment period for this announcement unless the Agency receives substantive comments within the comment period that would merit its further review of the requests, or unless the registrants withdrew their requests. If these requests are granted, any sale, distribution, or use of products listed in this notice will be permitted after the registration has been cancelled and uses terminated only if such sale, distribution, or use is consistent with the terms as described in the final order.

DATES: Comments must be received on or before November 24, 2021.

ADDRESSES: Submit your comments, identified by docket identification (ID) number EPA-HQ-OPP-2021-0513, through the Federal eRulemaking Portal at http://www.regulations.gov. Follow the online instructions for submitting comments. Do not submit electronically any information you consider to be Confidential Business Information (CBI) or other information whose disclosure is restricted by statute. Additional instructions on commenting or visiting the docket, along with more information about dockets generally, is available at http://www.epa.gov/dockets.

Submit written withdrawal request by mail to: Registration Division (7502P), Office of Pesticide Programs, Environmental Protection Agency, 1200 Pennsylvania Ave. NW, Washington, DC 20460-0001. ATTN: Christopher Green.

Due to the public health concerns related to COVID-19, the EPA Docket Center (EPA/DC) and Reading Room is closed to visitors with limited exceptions. The staff continues to provide remote customer service via email, phone, and webform. For the latest status information on EPA/DC services and docket access, visit https://www.epa.gov/dockets.

FOR FURTHER INFORMATION CONTACT: Christopher Green, Registration Division (7502P), Office of Pesticide Programs, Environmental Protection Agency, 1200 Pennsylvania Ave. NW, Washington, DC 20460-0001; telephone number: (703) 347-0367; email address: green.christopher@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This notice announces receipt by EPA of requests from registrants to cancel and terminate certain uses product registrations. The affected products and the registrants making the requests are identified in Table 1, Table 1A, Table 2 and Table 3 of this unit.

Unless a request is withdrawn by the registrant or if the Agency determines that there are substantive comments that warrant further review of this request, EPA intends to issue an order canceling and amending the affected registrations.

Table 1—Product Registrations With Pending Requests for Cancellation
Registration No. | Company No. | Product name | Active ingredients
279-3125 | 279 | Fury 1.5 EC Insecticide | Zeta-Cypermethrin.
279-3248 | 279 | Z-Cype 0.8 EW Insecticide | Zeta-Cypermethrin.
279-3249 | 279 | Z-Cype 0.8 EC Insecticide | Zeta-Cypermethrin.
279-3297 | 279 | 0.344% F0570 OTC Granular Insecticide | Zeta-Cypermethrin.
279-3298 | 279 | 0.258% F0570 OTC Granular Insecticide | Zeta-Cypermethrin.
279-3299 | 279 | 0.129% F0570 OTC Granular Insecticide | Zeta-Cypermethrin.
279-3327 | 279 | Zeta-Cype 0.8EC Insecticide | Zeta-Cypermethrin.
279-3328 | 279 | Zeta-Cype 0.8EW Insecticide | Zeta-Cypermethrin.
279-3381 | 279 | Zeta-Cype 0.8 EC HSL Insecticide | Zeta-Cypermethrin.
2693-190 | 2693 | Micron CSC Super with Bio-Lux Blue | Cuprous oxide & 1,3,5-Triazine-2,4-diamine, N-cyclopropyl-N′-(1,1-dimethylethyl)-6-(methylthio)-.
2693-197 | 2693 | VC 17M with Biolux Original | 1,3,5-Triazine-2,4-diamine, N-cyclopropyl-N′-(1,1-dimethylethyl)-6-(methylthio)-.
2693-198 | 2693 | VC 17M with Biolux Red | 1,3,5-Triazine-2,4-diamine, N-cyclopropyl-N′-(1,1-dimethylethyl)-6-(methylthio)-.
9688-295 | 9688 | Chemsico Fire Ant Killer 6B | Bifenthrin.
33270-12 | 33270 | Tremor | Acetochlor.
34704-887 | 34704 | Cypermethrin 25 | Cypermethrin.
34704-897 | 34704 | Cypro Termiticide/Insecticide | Cypermethrin.
42750-106 | 42750 | Acetochlor 4.3 + ATZ 1.7 | Atrazine & Acetochlor.
42750-108 | 42750 | Acetochlor 3.1 + ATZ 2.5 | Atrazine & Acetochlor.
42750-201 | 42750 | Fluroxypyr + Clopyralid | Fluroxypyr-meptyl & Clopyralid, monoethanolamine salt.
42750-203 | 42750 | Fluroxypyr + 2,4-D | 2,4-D, 2-ethylhexyl ester & Fluroxypyr-meptyl.
42750-204 | 42750 | Fluroxypyr 26.2% EC | Fluroxypyr-meptyl.
55467-17 | 55467 | Volunteer 2EC Herbicide | Clethodim.
62719-536 | 62719 | Starane NXTCP | Bromoxynil octanoate & Fluroxypyr-meptyl.
71173-1 | 71173 | Acrocide | Acrolein.
71173-2 | 71173 | AcroCide H Herbicide | Acrolein.
ID-080005 | 62719 | Starane NXT | Bromoxynil octanoate & Fluroxypyr-meptyl.
ID-130010 | 34704 | Colt CF Herbicide | Clopyralid & Fluroxypyr-meptyl.
FL-090011 | 279 | Mustang Insecticide | Zeta-Cypermethrin.
FL-100002 | 279 | Mustang Insecticide | Zeta-Cypermethrin.
KS-120001 | 55467 | Tenkoz Atrazine 4L Herbicide | Atrazine.
NE-130001 | 279 | F9114 EC Insecticide | Zeta-Cypermethrin.
TX-100011 | 279 | Mustang Insecticide | Zeta-Cypermethrin.
TX-100012 | 279 | Mustang Insecticide | Zeta-Cypermethrin.
WI-180008 | 279 | F9114 EC Insecticide | Zeta-Cypermethrin.

Table 1A—Product Registration With Pending Request for Cancellation
Registration No. | Company No. | Product name | Active ingredients
100-1431 | 100 | Gramoxone SL 2.0 | Paraquat dichloride.

The registrant of the registration listed in Table 1A, has requested the date of March 30, 2022, for the effective date of cancellation.

Table 2—Product Registrations with Pending Requests for Amendment
Registration No. | Company No. | Product name | Active ingredient | Uses to be terminated
19713-97 | 19713 | Drexel Linuron 4L | Linuron | Post-harvest, crop stubble, fallow ground stale seedbed (under soybean use directions).
19713-158 | 19713 | Linuron Flake Technical | Linuron | Terrestrial Non- Cropland Uses (such as roadsides and fencerows).
19713-251 | 19713 | Drexel Linuron DF | Linuron | Non-crop weed control (on all non-cropland areas including roadsides and fencerows).
19713-368 | 19713 | Drexel Linuron Technical 2 | Linuron | Terrestrial Non-Cropland Uses (such as roadsides and fencerows).

Table 3 of this unit includes the names and addresses of record for the registrants of the products listed in Table 1, Table 1A and Table 2 of this unit, in sequence by EPA company number. This number corresponds to the first part of the EPA registration numbers of the products listed in Table 1, Table 1A and Table 2 of this unit.

Table 3—Registrants Requesting Voluntary Cancellation and/or Amendments
EPA company No. | Company name and address
100 | Syngenta Crop Protection, LLC, 410 Swing Road, P.O. Box 18300, Greensboro, NC 27419-8300.
279 | FMC Corporation, 2929 Walnut Street, Philadelphia, PA 19104.
2693 | International Paint, LLC, 6001 Antoine Drive, Houston, TX 77091.
9688 | Chemsico, A Division of United Industries Corp., One Rider Trail Plaza Drive, Suite 300, Earth City, MO 63045-1313.
19713 | Drexel Chemical Company, P.O. Box 13327, Memphis, TN 38113-0327.
33270 | Winfield Solutions, LLC, P.O. Box 64589, St. Paul, MN 55164-0589.
34704 | Loveland Products, Inc., P.O. Box 1286, Greeley, CO 80632-1286.
42750 | Albaugh, LLC, 1525 NE 36th Street, Ankeny, IA 50021.
55467 | Tenkoz, Inc., 1725 Windward Concourse, Suite 410, Alpharetta, GA 30005.
62719 | Corteva Agriscience, LLC, 9330 Zionsville Road, Indianapolis, IN 46268.
71173 | Multi-Chem Group, LLC—Odessa, 6155 W Murphy St., Odessa, TX 79763-7511.

III. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register.

Section 6(f)(1)(B) of FIFRA (7 U.S.C. 136d(f)(1)(B)) requires that before acting on a request for voluntary cancellation, EPA must provide a 30-day public comment period on the request for voluntary cancellation or use termination. In addition, FIFRA section 6(f)(1)(C) (7 U.S.C. 136d(f)(1)(C)) requires that EPA provide a 180-day comment period on a request for voluntary cancellation or termination of any minor agricultural use before granting the request, unless:

1. The registrants request a waiver of the comment period, or

2. The EPA Administrator determines that continued use of the pesticide would pose an unreasonable adverse effect on the environment.

The registrants have requested that EPA waive the 180-day comment period. Accordingly, EPA will provide a 30-day comment period on the proposed requests.

IV. Procedures for Withdrawal of Requests

Registrants who choose to withdraw a request for product cancellation or use termination should submit the withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the action. If the requests for voluntary cancellation and amendments to terminate uses are granted, the Agency intends to publish the cancellation order in the Federal Register.

In any order issued in response to these requests for cancellation of product registrations and amendments to terminate uses, EPA proposes to include the following provisions for the treatment of any existing stocks of the products listed in Table 1, Table 1A and Table 2 of Unit II.

For Product 100-1431

For product 100-1431 listed in Table 1A of Unit II, the registrant has requested March 30, 2022, as the effective date of cancellation, registrants will be permitted to sell and distribute existing stocks of voluntarily canceled products for 1 year after the effective date of the cancellation, which will be March 30, 2023. Thereafter, registrants will be prohibited from selling or distributing the product identified in Table 1A of Unit II, except for export consistent with FIFRA section 17 (7 U.S.C. 136o) or for proper disposal.

For all other voluntary product cancellations, listed in Table 1 of Unit II, registrants will be permitted to sell and distribute existing stocks of voluntarily canceled products for 1 year after the effective date of the cancellation, which will be the date of publication of the cancellation order in the Federal Register. Thereafter, registrants will be prohibited from selling or distributing the products identified in Table 1 of Unit II, except for export consistent with FIFRA section 17 (7 U.S.C. 136o) or for proper disposal.

Once EPA has approved product labels reflecting the requested amendments to terminate uses, registrants will be permitted to sell or distribute products under the previously approved labeling for a period of 18 months after the date of Federal Register publication of the cancellation order, unless other restrictions have been imposed. Thereafter, registrants will be prohibited from selling or distributing the products whose labels include the terminated uses identified in Table 2 of Unit II, except for export consistent with FIFRA section 17 or for proper disposal.

Persons other than the registrant may sell, distribute, or use existing stocks of canceled products & products whose labels include the terminated uses until supplies are exhausted, provided that such sale, distribution, or use is consistent with the terms of the previously approved labeling on, or that accompanied, the canceled products & terminated uses.

Authority: 7 U.S.C. 136 et seq.

Dated: October 15, 2021.
Marietta Echeverria,
Acting Director, Registration Division, Office of Pesticide Programs.

[FR Doc. 2021-23178 Filed 10-22-21; 8:45 am]

BILLING CODE 6560-50-P